DEPARTMENT OF HEALTH AND HUMAN SERVICES

National Institutes of Health

Center for Scientific Review; Amended Notice of Meeting

Notice is hereby given of a change in the meeting of the Motor Function, Speech and Rehabilitation Study Section, June 29, 2020, 08:00 a.m. to June 30, 2020, 05:00 p.m., National Institutes of Health, Rockledge II, 6701 Rockledge Drive, Bethesda, MD, 20892 which was published in the Federal Register on June 02, 2020, 85 FR 33690.

This notice is being amended to change the meeting start time from 08:00 a.m. to 05:00 p.m. to 09:00 a.m. to 05:00 p.m. The meeting is closed to the public.

Dated: June 17, 2020.
Miguelina Perez,
Program Analyst, Office of Federal Advisory Committee Policy.

[FR Doc. 2020-13412 Filed 6-22-20; 8:45 am]

BILLING CODE 4140-01-P